DEPARTMENT OF ENERGY

Agency Information Collection Extension

AGENCY: Department of Energy.

ACTION: Notice and request for comments.

SUMMARY: The Department of Energy (DOE), pursuant to the Paperwork Reduction Act of 1995 intends to extend for three years, an information collection package with the Office of Management and Budget (OMB) concerning Security requirements for DOE contractors. The collections consist of information (1) for the nuclear materials control and accountability for DOE-owned and leased facilities and DOE-owned nuclear materials at other facilities that are exempt from licensing by the NRC; (2) for the protection of classified information, special nuclear materials and other national security assets (DOE site self-assessments and site security plans); and (3) on DOE Federal and contractors traveling to foreign countries; for tracking and recording background information on foreign nationals having access to DOE facilities and information; and collection of Foreign Ownership, Control or Influence data from bidders on DOE contracts requiring personnel security clearances. Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

Comments submitted in response to this notice will be summarized and/or included in the request for OMB approval of this information collection. They also will become a matter of public record.

DATES: Comments regarding this proposed information collection must be received on or before August 30, 2005. If you anticipate difficulty in submitting comments within that period, contact the person listed below as soon as possible.

ADDRESSES: Written comments may be sent to:

Kathy Murphy, SP-1.22 Germantown Building, U.S. Department of Energy, 1000 Independence Ave SW., Washington, DC 20585-1290. Or by fax at 301-903-6081 or by e-mail at Kathy.murphy@hq.doe.gov and to:

Sharon A. Evelin, Director, IM-11/Germantown Building, U.S. Department of Energy, 1000 Independence Ave SW., Washington, DC 20585-1290. Or by fax at (301) 903-9061 or by e-mail at sharon.evelin@hq.doe.gov

FOR FURTHER INFORMATION CONTACT: Requests for additional information or copies of the information collection instrument and instructions should be directed to Kathy Murphy at the address listed above in ADDRESSES.

SUPPLEMENTARY INFORMATION: This package contains: (1) OMB No. 1910-1800; (2) Package Title: Security; (3) Type of Review: renewal; (4) Purpose: for DOE management to exercise management oversight and control over its contractors; (5) Respondents: 39,136; (6) Estimated Number of Burden Hours: 249,955.

Statutory Authority: Department of Energy Organization Act, Public Law 95-91, of August 4, 1977.

Issued in Washington, DC, on June 27, 2005.
Sharon A. Evelin,
Director, Records Management Division, Office of the Chief Information Officer.

[FR Doc. 05-13009 Filed 6-30-05; 8:45 am]

BILLING CODE 6450-01-P